DEPARTMENT OF LABOR

Employment and Training Administration

[TA-W-85,665]

Mondi Bags USA, LLC, New Philadelphia Plant, Including Workers Whose Wages Are Reported Under Graphic Packaging Industrial, New Philadelphia, Ohio; Amended Certification Regarding Eligibility To Apply for Worker Adjustment Assistance

In accordance with section 223 of the Trade Act of 1974, as amended (“Act”), 19 U.S.C. 2273, the Department of Labor issued a Certification of Eligibility to Apply for Worker Adjustment Assistance on December 11, 2014, applicable to workers of Mondi Bags USA, LLC, New Philadelphia Plant, New Philadelphia, Ohio. The Notice of Determination was published in the Federal Register on December 30, 2014 (79 FR 78495).

At the request of a State Workforce Official, the Department reviewed the certification for workers of the subject firm. The workers' firm is engaged in the production of multiwall bags.

The investigation confirmed that the worker group includes workers whose wages are reported under Graphic Packaging Industrial. Based on these findings, the Department is amending this certification to include those workers.

The amended notice applicable to TA-W-85,665 is hereby issued as follows:

All workers of Mondi Bags USA, LLC, New Philadelphia Plant, including workers whose wages are reported under Graphic Packaging Industrial, New Philadelphia, Ohio, who became totally or partially separated from employment on or after November 13, 2013 through December 11, 2016, are eligible to apply for adjustment assistance under Chapter 2 of Title II of the Trade Act of 1974, as amended, and are also eligible to apply for alternative trade adjustment assistance under Section 246 of the Trade Act of 1974, as amended.

Signed in Washington, DC, this 24th day of February, 2015.
Michael W. Jaffe,
Certifying Officer, Office of Trade Adjustment Assistance.

[FR Doc. 2015-06169 Filed 3-17-15; 8:45 am]

BILLING CODE 4510-FN-P